DEPARTMENT OF LABOR

Office of the Secretary

Submission for OMB Review: Comment Request

June 8, 2007.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Mine Safety and Health Administration (MSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Safety Standards for Underground Coal Mine Ventilation—Belt Entry Used as an Intake Air Course to Ventilate Working Sections and Areas Where Mechanized Mining Equipment is Being Installed.

OMB Number: 1219-0138.

Form Number: None.

Type of Response: Reporting and Recordkeeping.

Affected Public: Private Sector: Business or other for-profit (mining industry).

Number of Respondents: 45.

Estimated Number of Annual Responses: 44,768.

Average Response Time: Varies.

Estimated Annual Burden Hours: 9,083.

Total Annualized capital/startup costs: $0.

Total Annual Costs (operating/maintaining systems or purchasing services): $87,137.

Description: Section 103(h) of the Federal Mine Safety and Health Act of 1977 (Mine Act), 30 U.S.C. 813, authorizes MSHA to collect information necessary to carryout its duty in protecting the safety and health of miners.

The Safety Standards for Underground Coal Mine Ventilation—Belt Entry rule provides safety requirements for the use of the conveyor belt entry as a ventilation intake to course fresh air to working sections and areas where mechanized mining equipment is being installed or removed in mines with three or more entries. This rule is a voluntary standard. If the mine operators choose to use belt air to ventilate working places, the provisions will maintain the level of safety in underground mines while allowing them to implement advances in mining atmospheric monitoring technology. This rule establishes alternate provisions that mine operators need to follow if they want to use belt air to ventilate working sections.

Section 75.351(b)(3) requires the posting at the surface location of an up-to-date map or schematic showing air flow directions and the location and type of all Atmospheric Monitoring System (AMS) sensors. Section 75.351(n)(1) requires that sensors used to detect CO or smoke be visually examined at least once each shift, when belts are operated as part of a production shift. If hazardous conditions are found during the visual exam, then a log of such conditions must be filed under existing Section 75.363(b)—Hazardous conditions; posting, correcting and recording (OMB approval 1219-0088).

Sections 75.351(n)(2) and 75.351(n)(3) require that a log be kept of every seven-day alarm test and every 31-day CO, smoke, or methane sensor calibration, respectively.

Section 75.351(o)(1)(i) requires that a record be made if the AMS emits an alert or alarm signal. The record would consist of the date, time, location, and type of sensor, and the reason for its activation. Section (o)(1)(ii) requires that, if a malfunction in the system occurs, a record be made of the malfunction and the corrective action to return the system to proper operating condition. We (MSHA) believe that such records are useful to the miner, the mine operator, and the Agency in determining areas of recurring problems. This will aid in ensuring proper operation of AMSs.

Section 75.351(o)(1)(iii) requires that the persons doing the weekly test of alert and alarm signals, the monthly calibration, or maintenance of the system make a record of these tests, calibrations, or maintenance. Section § 75.351(o)(3) requires that all records concerning the AMS be kept in a book or electronically in a computer system, that is secure and not susceptible to alteration. Section 75.351(p) requires the mine operator to keep these records for at least one year at a surface location and to make them available for inspection by authorized representatives of the Secretary and representatives of miners.

Section 75.351(q) requires that a record of annual AMS operator training be kept. The record will include the content of training, the person conducting the training, and the date the training is conducted. The record needs to be maintained at the mine site by the mine operator for at least one year.

Sections 75.352(a) and 75.352(b) require the designated AMS operator or other appropriate personnel to take actions promptly when malfunction, alert, or alarm signals are received. These requirements are parallel to those of Section 75.351(o).

Numerous provisions require action to modify the mine ventilation plan. Provisions under Section 75.371 Mine Ventilation Plan include: Section 75.371(ii) requires the locations where dust measurements are made in the belt entry, in accordance with Section 75.350(b)(3) be included in the mine ventilation plan; Section 75.371(jj) requires the locations where velocities in the belt entry exceed limits set forth in Section 75.350(a)(2), and the maximum approved velocity for each location must be shown in the mine ventilation plan; Section 75.371(kk) requires the locations where air quantities are measured as set forth in Section 75.350(b)(6) be included in the mine ventilation plan; Section 75.371(ll) requires the inclusion of point feed locations and their use in the mine ventilation plan; and Sections 75.371(nn), 75.371(oo), and 75.371(pp) require modification of the mine ventilation plan to show the length of the time delay or any other method used for reducing the number of non-fire related alert and alarm signals from CO sensors, the lower alert and alarm setting for CO sensors, and the alternate instrument and the alert and alarm levels associated with the instrument, respectively.

The respondents are mine operators that elect to use belt air to ventilate working sections and areas where mechanized equipment is being installed or removed. The records will be used by coal mine supervisors and employees, State mine inspectors, and Federal mine inspectors. The records show that the examinations and tests were conducted and give insight into the hazardous conditions that have been encountered and those that may be encountered. The records of inspections greatly assist those who use them in making decisions that will ultimately affect the safety and health of miners working in belt air mines.

Darrin A. King,
Acting Departmental Clearance Officer.

[FR Doc. E7-11484 Filed 6-13-07; 8:45 am]

BILLING CODE 4510-43-P